DEPARTMENT OF COMMERCE

Patent and Trademark Office

[Docket No. PTO-C-2021-0036]

Performance Review Board (PRB)

AGENCY: United States Patent and Trademark Office, Commerce.

ACTION: Notice.

SUMMARY: In conformance with the Civil Service Reform Act of 1978, the United States Patent and Trademark Office announces the appointment of persons to serve as members of its Performance Review Board.

ADDRESSES: Office of Human Resources, United States Patent and Trademark Office, P.O. Box 1450, Alexandria, VA 22313-1450.

FOR FURTHER INFORMATION CONTACT: Lari B. Washington—Acting Director, Human Capital Management at (571) 272-5187.

SUPPLEMENTARY INFORMATION: The membership of the United States Patent and Trademark Office Performance Review Board is as follows:

Coke M. Stewart, Chair, Performing the Functions and Duties of the Deputy Under Secretary of Commerce for Intellectual Property and Deputy Director of the United States Patent and Trademark Office

Frederick W. Steckler, Vice Chair, Chief Administrative Officer, United States Patent and Trademark Office

Andrew I. Faile, Acting Commissioner for Patents, United States Patent and Trademark Office

David S. Gooder, Commissioner for Trademarks, United States Patent and Trademark Office

Dennis J. Hoffman, Chief Financial Officer, United States Patent and Trademark Office

Henry J. Holcombe, Chief Information Officer, United States Patent and Trademark Office

David L. Berdan, General Counsel, United States Patent and Trademark Office

Mary Critharis, Chief Policy Officer and Director for International Affairs, United States Patent and Trademark Office

Gerard F. Rogers, Chief Administrative Trademark Judge, United States Patent and Trademark Office

Scott R. Boalick, Chief Administrative Patent Judge, United States Patent and Trademark Office

Bismarck Myrick, Director of the Office of Equal Employment Opportunity and Diversity, United States Patent and Trademark Office

Cara Duckworth, Acting Chief Communications Officer, United States Patent and Trademark Office

Alternates:

Richard Seidel, Deputy Commissioner for Patents, United States Patent and Trademark Office

Greg Dodson, Deputy Commissioner for Trademark Administration, United States Patent and Trademark Office

Andrew Hirshfeld,
Commissioner for Patents, Performing the Functions and Duties of the Under Secretary of Commerce for Intellectual Property and Director of the United States Patent and Trademark Office.

[FR Doc. 2021-16586 Filed 8-3-21; 8:45 am]

BILLING CODE 3510-16-P